DEPARTMENT OF TRANSPORTATION

Federal Aviation Administration

General Aviation Training Materials

AGENCY: Federal Aviation Administration (FAA), DOT.

ACTION: Notice of availability.

SUMMARY: With this notice, the FAA's General Aviation and Commercial Division (AFS-800) announces the availability of three new educational resources for pilots and flight instructors. These are the first in a series of new web-based training materials tailored to the operational needs of the general aviation (GA) community.

FOR FURTHER INFORMATION CONTACT: Mike Brown, Certification and Flight Training Branch, AFS-840, FAA, 800 Independence Ave., SW., Washington, DC 20591; telephone (202) 267-7653; fax (202) 267-5094; or e-mail michael.w.brown@faa.gov.

Background: In an effort to improve general aviation safety, the FAA continues to focus its attention on the flight training community. Specifically, AFS-800 has been tasked via the Administrator's Flight Plan 2004-2008 with improving flight training while maintaining or lowering costs. To that end, the FAA is moving forward by developing educational and flight training materials to help improve the quality of flight instruction.

The first resource, titled Flight Instructor Training Module Volume 1: FAA/Industry Training Standards (FITS), is designed to achieve two objectives. First, it will familiarize flight instructors with the FITS program, including its history, objectives, methods, and future goals. Second and perhaps most important, this training module will provide instructors with the guidance needed to develop their own FITS-based training curricula.

The second and third resources, titled System Safety Course Developers' Guide (parts 1 and 2), will familiarize flight instructors with the concepts, principles, and techniques central to system safety. In addition, these modules will provide instructors with the tools necessary to integrate system safety concepts into their current instructional programs.

While the FAA created these resources for the flight instructor community, all pilots are encouraged to review these materials as part of their initial or recurrent training efforts. Both documents, along with other flight training resources, may be downloaded at http://www.faa.gov/avr/afs/FITS/training.cfm.

Issued in Washington, DC, on September 21, 2004.
Robert A. Wright,
Manager, General Aviation and Commercial Division.

[FR Doc. 04-21738 Filed 9-29-04; 8:45 am]

BILLING CODE 4910-13-M